DEPARTMENT OF AGRICULTURE

Forest Service

Information Collection: Generic Clearance for Social Science and Economics Data Collections on Goods, Services, and Jobs Provided by Forests and Natural Areas

AGENCY: Forest Service, USDA.

ACTION: Notice; request for comment.

SUMMARY: In accordance with the Paperwork Reduction Act of 1995, the Forest Service is seeking comments from all interested individuals and organizations on a new generic information collection request, Social Science and Economics Data Collections on Goods, Services, and Jobs Provided by Forests and Natural Areas.

DATES: Comments must be received in writing on or before May 14, 2018 to be assured of consideration. Comments received after that date will be considered to the extent practicable.

ADDRESSES: Send written comments to Kenli Kim, National Program Leader for Social Science Research, 1400 Independence Ave. SW, Mailstop 1114, Washington, DC 20250-1114, or by electronic mail to PRAcomments@fs.fed.us, with “PRA comment on Goods, Services, and Jobs” in the subject line. If comments are sent by electronic mail, the public is requested not to send duplicate written comments via regular mail. Please confine written comments to issues pertinent to the information collection request, explain the reasons for any recommended changes, and, where possible, reference the specific section or paragraph being addressed.

All timely submitted comments, including names and addresses when provided, are placed in the record and are available for public inspection and copying. The public may inspect comments received on this information collection at the USDA Forest Service Headquarters, 201 14th St. SW, Washington, DC 20250 between the hours of 10:00 a.m. to 5:00 p.m. on business days. Those wishing to inspect comments should contact Kenli Kim (kkim@fs.fed.us) to facilitate an appointment and entrance to the building.

FOR FURTHER INFORMATION CONTACT: Kenli Kim, National Program Leader for Social Science Research at the Forest Service (kkim@fs.fed.us). Individuals who use telecommunication devices for the deaf (TDD) may call the Federal Relay Service (FRS) at 1-800-877-8339 twenty-four hours a day, every day of the year, including holidays.

SUPPLEMENTARY INFORMATION:

Title: Generic Clearance for Social Science and Economics Data Collections on Goods, Services, and Jobs Provided by Forests and Natural Areas.

OMB Number: 0596—NEW.

Expiration Date of Approval: NEW.

Type of Request: NEW.

Abstract: The USDA Forest Service is seeking Office of Management and Budget (OMB) approval to collect information that will help the Forest Service sustainably manage and provide guidance to others about managing the wide range of goods, services, jobs, and other values that people get from forests, grasslands, parks, and other natural areas.

In rural, suburban, and urban parts of the country, forests, grasslands, and other natural areas provide jobs through: Logging, sawmills, and extraction of non-timber forest products; guide services, hotels, restaurants, and equipment sales that support outdoor recreation; and natural area restoration and management activities. Innovative forest products such as wood-based nano-technologies and laminated timbers are critical to the modern economies of communities large and small. Forests and natural areas provide important ecosystem services such as clean water and natural flood control and influence other critical economic factors like home and land values. Time spent in or with a view of trees, forests, and green spaces can have indirect economic impacts and provide community benefits by improving mental and physical health and well-being.

In addition to the products and services derived from forests, grasslands, or natural areas, people may also value and appreciate the natural environment itself when they experience it directly. These experiences can have meaningful and direct impacts on quality of life, sense of self, and sense of community. While such values are sometimes hard for people to express or to quantify, they play an important role in how people respond to natural resource management proposals and actions, and can often be at the root of conflict over land management policies and practices.

Understanding people's views on these goods, services, and values is critical to managing forests, grasslands, and other natural areas to meet the needs of American citizens—to provide the “greatest good to the greatest number of people for the longest time” as Gifford Pinchot, Founding Chief of the Forest Service, described it. Surveys, interviews, focus groups, and related methods administered under this Generic Clearance will collect information from individuals and groups who seek or benefit from a wide variety of goods, services, and other values from forests, grasslands, and other natural areas. Any specific study conducted under this Generic ICR will be posted for public comment in The Federal Register for 30 days by the USDA Forest Service.

Estimate of Annual Burden on Respondents: 9,440 hours/year.

Type of Respondents: Participants/respondents will be individuals, not specific entities.

Estimated Annual Number of Respondents: 60,420 year.

Estimated Annual Number of Responses per Respondent: 1 response/respondent is anticipated.

Comment is Invited

Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology. The Forest Service will consider the comments received and amend the ICR as appropriate. The final ICR package will then be submitted to OMB for review and approval.

All comments received in response to this notice, including names and addresses when provided, will be a matter of public record. Comments will be summarized and included in the submission request for final Office of Management and Budget approval.

Dated: February 15, 2018.
Monica Lear,
Associate Deputy Chief, Research & Development.

[FR Doc. 2018-05006 Filed 3-12-18; 8:45 am]

BILLING CODE 3411-15-P